DEPARTMENT OF COMMERCE

Census Bureau

Proposed Information Collection; Comment Request; 2014 New York City Housing and Vacancy Survey

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before April 2, 2013.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Alan Friedman, US Census Bureau, Room 7H590H, Washington, DC 20233-8500; phone: (301) 763-5664; or alan.friedman@census.gov.

SUPPLEMENTARY INFORMATION:

I. Abstract

The Census Bureau plans to conduct the 2014 New York City Housing and Vacancy Survey (NYCHVS) under contract for the City of New York. The primary purpose of the survey is to measure the rental vacancy rate, which is the primary factor in determining the continuation of rent control regulations. Other survey information is used by city and state agencies for planning purposes and by the private sector for business decisions. New York is required by city law to have such a survey conducted every three years.

Information to be collected includes: age, gender, race, Hispanic origin, and relationship of all household members; employment status, education level, and income for persons aged 15 and above. Owner/renter status (tenure) is asked for all occupied units. Utility costs, monthly rent, availability of kitchen and bathroom facilities, maintenance deficiencies, neighborhood suitability, and other specific questions about each unit such as number of rooms and bedrooms are also asked. The survey also poses a number of questions relating to handicapped accessibility. For vacant units, a shorter series of similar questions is asked. Finally, all vacant units and approximately five percent of occupied units will be reinterviewed for quality assurance purposes.

The Census Bureau compiles the data in tabular format based on specifications of the survey sponsor, as well as non-identifiable microdata. Both types of data are also made available to the general public through the Census Internet site. Note, however, that the sponsor, like the general public, does not receive any information that identifies any sample respondent or household.

II. Method of Collection

All information will be collected via personal interview.

III. Data

OMB Control Number: 0607-0757.

Form Numbers: H-100, H-108.

Type of Review: Regular submission.

Affected Public: primarily households and some rental offices/realtors (for vacants).

Estimated Number of Respondents: 17,850 occupied units, 950 vacant units, 1,900 reinterviews.

Estimated Time Per Response: 30 minutes—occupied, 10 minutes—vacant, 10 minutes—reinterview.

Estimated Total Annual Burden Hours: 9,400.

Estimated Total Annual Cost: The only cost to respondents is that of their time.

Respondent's Obligation: Voluntary.

Legal Authority: Title 13 U.S.C.—Section 8b and Local Emergency Housing Rent Control Act, Laws of New York (Chapters 8603 and 657).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 28, 2013.
Glenna Mickelson,
Management Analyst, Office of the Chief Information Officer.

[FR Doc. 2013-02128 Filed 1-31-13; 8:45 am]

BILLING CODE 3510-07-P